DEPARTMENT OF TRANSPORTATION

Pipeline and Hazardous Materials Safety Administration

[Docket No. PHMSA-2018-0042]

Pipeline Safety: Request for Special Permit; Golden Pass LNG Terminal, LP

AGENCY: Pipeline and Hazardous Materials Safety Administration (PHMSA); DOT.

ACTION: Notice.

SUMMARY: PHMSA is publishing this notice to solicit public comment on a request for special permit, seeking relief from compliance with certain requirements in the Federal Pipeline Safety Regulations (PSRs). At the conclusion of the 30-day comment period, PHMSA will review the comments received from this notice as part of its evaluation to grant or deny the special permit request.

DATES: Submit any comments regarding this special permit request by April 25, 2019.

ADDRESSES: Comments should reference the docket number for the specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Reglations.gov. Comments, including any personal information provided, are posted without changes or edits to http://www.Regulations.gov.

FOR FURTHER INFORMATION CONTACT:

General: Ms. Kay McIver by telephone at 202-366-0113, or email at kay.mciver@dot.gov.

Technical: Mr. Thach Nguyen by telephone at 909-262-4464, or by email at Thach.d.Nguyen@dot.gov.

SUPPLEMENTARY INFORMATION: On March 28, 2018, PHMSA received a special permit request from Golden Pass LNG Terminal, LP (GPLNG) to deviate from the PSRs in 49 Code of Federal Regulations, part 193, subpart G for the following provisions: Subpart G Maintenance—§§ 193.2603(a) and (b), 193.2607, 193.2609, 193.2619(c) and (e), 193.2631, and 193.2635(e).

GPLNG proposes to create a hydrocarbon-free environment in the existing regasification terminal or Brownfield facilities prior to construction of the new liquefaction/export project to maximize safety of the interconnection construction. Existing equipment will be at ambient temperature, purged of all hydrocarbons and displaced with nitrogen. In some cases, containment will be broken for modification. The main gas supply pipeline will be blinded off from the Brownfield site. A hydrocarbon-free environment will allow new equipment/facilities to be interconnected to existing equipment and allow certain existing equipment to be modified under safer conditions. While the GPLNG Terminal is out of service and purged free of hazardous fluid, GPLNG seeks to be relieved from performing the maintenance, inspection, and testing activities required in §§ 193.2603(a) and (b), 193.2607, 193.2609, 193.2619(c) and (e), 193.2631, and 193.2635(e). Prior to bringing the GPLNG Terminal back to service, GPLNG will carry out its recommissioning/restart plan, and PHMSA will perform inspections to verify that the LNG facility equipment and components are fully restored to their original and fully compliant functions.

The GPLNG Terminal is located on the southern shore of the Sabine-Neches Waterway in Jefferson County, Texas, approximately ten (10) miles south of Port Arthur, Texas, and two (2) miles north of Sabine Pass, Texas. Since June 2012, the terminal has maintained a warmed state, where all LNG has been removed, but equipment remains in a state of readiness that includes methane vapors. The GPLNG Terminal consists of two (2) berths, five (5) LNG storage tanks, and a regasification system. All associated piping, valves and pumps will be made hydrocarbon free in accordance with § 193.2517 and American Gas Association's Purging Principles and Practices (incorporated by reference, see § 193.2013).

The proposed special permit conditions and Draft Environmental Assessment (DEA) for the Golden Pass LNG facility are available at http://www.Regulations.gov for public review and comment. We invite interested persons to review and submit comments on the special permit request, DEA, and other background materials in the docket. Please include any comments on potential safety and environmental impacts that may result if the special permit is granted. Comments may include relevant data.

Before issuing a decision on the special permit request, PHMSA will evaluate all comments received on or before the comment closing date. Comments received after the closing date will be evaluated if it is possible to do so without incurring additional expense or delay. PHMSA will consider each relevant comment we receive in making our decision to grant or deny a request.

Issued in Washington, DC, on March 21, 2019, under authority delegated in 49 CFR 1.97.
Linda Daugherty,
Deputy Associate Administrator for Field Operations.

[FR Doc. 2019-05713 Filed 3-25-19; 8:45 am]

BILLING CODE 4910-60-P